FEDERAL COMMUNICATIONS COMMISSION

[DA 02-3372]

Clarifies Public Notice Relating to Verification of ITFS, MDS, and MMDS License Status and Pending Applications

AGENCY: Federal Communications Commission.

ACTION: Notice.

SUMMARY: This document clarifies two issues relating to a Federal Communications Commission (FCC) Public Notice released on October 18, 2002 requiring all Instructional Television Fixed Service (ITFS), Multipoint Distribution Service (MDS), and Multichannel Multipoint Distribution Service (MMDS) (collectively, the “Services”) licensees and applicants to review licensing information and associated technical data.

ADDRESSES: Federal Communications Commission 445 12th Street, SW., TW-A325, Washington, DC 20554. See SUPPLEMENTARY INFORMATION for filing instructions.

FOR FURTHER INFORMATION CONTACT: Legal Matters: contact John J. Schauble, Chief, Policy and Rules Branch, Public Safety and Private Wireless Division, at (202) 418-0680.

For all questions regarding data corrections, and how to file those corrections, contact the Licensing Support Hotline at 1-888-225-5322 and select option 2.

SUPPLEMENTARY INFORMATION: This is a summary of the Federal Communications Commission's Public Notice, DA 02-3372, released on December 5, 2002. The full text of this document is available for inspection and copying during normal business hours in the Federal Communications Commission Reference Center, 445 12th Street, SW., Washington, DC 20554. The complete text may be purchased from the Federal Communications Commission's copy contractor, Qualex International, 445 12th Street, SW., Room CY-B402, Washington, DC 20554. The full text may also be downloaded at: www.fcc.gov. Alternative formats are available to persons with disabilities by contacting Brian Millin at (202) 418-7426 or TTY (202) 418-7365 or at bmillin@fcc.gov. Licensees and applicants should visit http://wireless.fcc.gov/services/itfs&mds/licensing/inventory.html in order to review the tables. For all questions regarding technical aspects of public access to BLS data, contact the FCC Technical Support Hotline: Call 202-414-1250 (TTY 202-414-1255) or e-mail to ulscomm@fcc.gov. The hotline is available Monday through Friday 8 a.m. to 6 p.m. Eastern Time. All calls to the hotline are recorded.

On October 18, 2002, 67 FR 69529, November 18, 2002, the Wireless Telecommunications Bureau (WTB) issued a public notice requiring all Instructional Television Fixed Service (ITFS), Multipoint Distribution Service (MDS), and Multichannel Multipoint Distribution Service (MMDS) (collectively, the “Services”) licensees and applicants to review licensing information and associated technical data. Licensees and applicants are required to verify the available information concerning their licenses and applications, make any necessary corrections concerning that data, and, under certain circumstances, submit corrections or responses to that data by February 3, 2003. By this public notice, WTB clarifies two issues relating to the BLS License Inventory Public Notice.

First, with respect to licenses in the Services, if a licensee believes that all information pertaining to a license (including both the license tables and the additional technical information available at http://wireless.fcc.gov/services/itfs&mds/licensing/inventory.html) is accurate, the licensee is not required to submit a response with respect to that license. With respect to pending applications filed prior to March 25, 2002, however, a response is required even if all the information relating to that pending application is correct. Specifically, the applicant must: (1) affirm, in writing, within sixty days of the release of this public notice, that continued processing of the application is requested, by contacting the FCC at the addresses listed below, and (2) submit a copy of the application with the written affirmation request.

If the information requested is being sent via United States Postal Service, licensees and applicants must use the following address: Federal Communications Commission, MDS/ITFS Database Corrections, 1270 Fairfield Road, Gettysburg, PA 17325.

Correspondence sent by overnight mail couriers (e.g., Federal Express, United Parcel Service, Airborne), hand-delivery or messenger must be addressed to: Federal Communications Commission, MDS/ITFS Database Corrections, 1120 Fairfield Road, Gettysburg, PA 17325.

Second, ITFS licensees and applicants are not required to verify data relating to receive sites. The FCC notes that ITFS licensees are currently prohibited from registering new receive sites. Moreover, while receive sites registered prior to September 17, 1998 are still entitled to interference protection, most such receive sites receive protection because they are located within the thirty-five mile protected service area of the ITFS station. Under those circumstances, and given the fact that many ITFS stations have a large number of registered receive sites, the FCC concludes that it would be unduly burdensome to require ITFS licensees to verify data relating to receive sites at this time. The FCC encourages ITFS licensees with grandfathered receive sites outside the thirty-five mile protected service area to review the data relating to receive sites and to submit corrections if the data does not accurately reflect the receive site, as registered with the FCC on September 17, 1998. The FCC nonetheless note that the prohibition on registering new ITFS receive sites remains in effect.

Federal Communications Commission.
Marlene H. Dortch,
Secretary.

[FR Doc. 03-813 Filed 1-14-03; 8:45 am]

BILLING CODE 6712-01-P